DEPARTMENT OF EDUCATION

34 CFR Part 200

RIN 1810-AA91

Title I—Improving the Academic Achievement of the Disadvantaged; Correction

AGENCY: Office of Elementary and Secondary Education, Department of Education.

ACTION: Final regulations; correction.

SUMMARY: The Department of Education published in the Federal Register of December 2, 2002, regulations governing the programs administered under Title I, parts A, C, and D of the Elementary and Secondary Education Act of 1965 (ESEA), as amended (hereinafter referred to as the Title I programs). The December 2, 2002, document contained minor errors. Additionally, some material was inadvertently left out of the Analysis of Comments and Changes appendix to the document. This document corrects the errors and adds the omitted material to the appendix.

DATES: These regulations are effective January 2, 2003.

FOR FURTHER INFORMATION CONTACT: For subparts A, D, and E of part 200, Jacquelyn C. Jackson, Ed. D. Acting Director, Student Achievement and School Accountability Programs, Office of Elementary and Secondary Education, U.S. Department of Education, 400 Maryland Avenue, SW., room 3W202, FB-6, Washington, DC 20202-6132. Telephone: (202) 260-0826.

For subparts B and C of part 200, Francisco Garcia, Director, Migrant Education Program, Office of Elementary and Secondary Education, U.S. Department of Education, 400 Maryland Avenue, SW., room 3E217, FB-6, Washington, DC 20202-6135. Telephone: (202) 260-0089.

Individuals with disabilities may obtain this document in an alternative format (e.g., Braille, large print, audiotape, or computer diskette) on request to the contact persons listed under FOR FURTHER INFORMATION CONTACT.

SUPPLEMENTARY INFORMATION: In the final regulations published on December 2, 2002 (67 FR 71710) make the following corrections:

1. On page 71716, in the second column, the introductory text of § 200.13(b) is corrected by adding the acronym “AYP” following the word “define”.

2. On page 71720, in the first column § 200.29(a) is correctly designated as paragraph (a)(1).

3. On page 71741, in the appendix, in the second column, after the fourth line, add the following text to read:

* * * * *

Comment: Several commenters noted a “catch-22” in the requirement to demonstrate increasing proficiency by limited English proficient students, since lack of English proficiency is the defining characteristic of this group and successful students “graduate” from, and thus are no longer counted in, the subgroup. Two commenters recommended that the final regulations permit the inclusion of “formerly” limited English proficient students in the limited English proficient (LEP) subgroup for the purpose of determining adequate yearly progress. The commenters feared that counting only “current” limited English proficient students would result in permanent identification for improvement of any school serving sufficient numbers of such students.

Discussion: The Secretary recognizes the concern raised by the commenter not to penalize schools and LEAs that succeed in developing the English proficiency of limited English proficient students. However, these provisions are statutory and may not be changed by the Secretary. Also, the definition of “limited English proficient” in section 9101 (25) of the ESEA includes three alternative definitions and may give States some flexibility to address this concern. The Secretary may further address this issue in Title I guidance.

Changes: None.

* * * * *

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Dated: January 3, 2003.
Susan B. Neuman,
Assistant Secretary, Office of Elementary and Secondary Education.

[FR Doc. 03-351 Filed 1-7-03; 8:45 am]

BILLING CODE 4000-01-P